DEPARTMENT OF ENERGY

Federal Energy Regulatory Commission

[Docket No. CP14-551-000]

Texas Eastern Transmission, LP; Notice of Request Under Blanket Authorization

Take notice that on September 10, 2014, Texas Eastern Transmission, LP (Texas Eastern), pursuant to its blanket certificate authorization granted in Docket No. CP82-535-000,¹ filed an application in accordance to sections 157.205 and 157.216 of the Commission's Regulations under the Natural Gas Act (NGA) as amended, requesting authority to abandon by sale certain pipeline facilities and removing related ancillary facilities, as necessary, located in Lincoln Parish, Louisiana. The proposed abandonment will enable Texas Eastern and its customers to eliminate the need for capital expenditures associated with the ongoing maintenance and repair of facilities that are no longer required for gas service, all as more fully set forth in the application which is on file with the Commission and open to public inspection.

¹ 21 FERC ¶ 62,199 (1982).

Texas Eastern requests authorization to abandon by sale to Regency, 5.97 miles of 14-inch diameter and 2.83 miles of 12-inch diameter pipelines designated as Line 2-H, and 2.1 miles of 12-inch diameter pipeline designated a Line 2-H-1. In additional, Texas Eastern proposes to remove certain related facilities. Regency specializes in the gathering and processing, contract compression, contract treating, transportation, fractionation and storage of natural gas and natural gas liquids. Regency intends to operate the pipelines as low-pressure gathering upon acquisition. The 2-H and 2-H-1 pipelines have not provided service to customers since April 2010, and its capacity is not currently subscribed under any firm service agreements.

Any questions concerning this application may be directed to Lisa A. Connolly, General Manager, Rates & Certificates, Texas Eastern Transmission, LP, P.O. Box 1642, Houston, Texas 77251-1642, by phone at (713) 627-4102, or fax at (713) 627-5947, or email to laconnolly@spectraenergy.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages interveners to file electronically.

Pursuant to section 157.9 of the Commission's rules, 18 CFR 157.9, within 90 days of this Notice, the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Dated: September 18, 2014.
Kimberly D. Bose,
Secretary.

[FR Doc. 2014-22793 Filed 9-24-14; 8:45 am]

BILLING CODE 6717-01-P